DEPARTMENT OF TRANSPORTATION

Surface Transportation Board

[STB Finance Docket No. 34516]

The Indiana Northeastern Railroad Company-Acquisition Exemption——Branch and St. Joseph Counties Rail Users Association, Inc.

The Indiana Northeastern Railroad Company, Inc. (IN), a Class III rail carrier, has filed a verified notice of exemption under 49 CFR 1150.41 to acquire from the Branch and St. Joseph Counties Rail Users Association, Inc., a 19.88-mile line of railroad between milepost 386.96 near Coldwater, MI, and milepost 406.84, near Sturgis, MI. IN has been operating this line since 2002.¹

¹ See Indiana Northeastern Railroad Company—Change in Operators Exemption—Branch and St. Joseph Counties Rail Users Association, Inc., STB Finance Docket No. 34273 (STB served Nov. 21, 2002).

IN certifies that its projected revenues as a result of this transaction will not result in the creation of a Class II or a Class I rail carrier.

The transaction was scheduled to be consummated on or soon after July 1, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34516, must be filed with the Surface Transportation Board, 1925 K Street, NW., Washington, DC 20423-0001. In addition, a copy of each pleading must be served on Carl M. Miller, 618 Professional Park Dr., P.O. Box 332, New Haven, IN 46774.

Board decisions and notices are available on our Web site at “www.stb.dot.gov.”

Decided: July 9, 2004.
By the Board, David M. Konschnik, Director, Office of Proceedings.
Vernon A. Williams,
Secretary.

[FR Doc. 04-16071 Filed 7-15-04; 8:45 am]

BILLING CODE 4915-01-P